ARCHITECTURAL AND TRANSPORTATION BARRIERS COMPLIANCE BOARD

Access Board Meeting

AGENCY: Architectural and Transportation Barriers Compliance Board.

ACTION: Notice of meeting.

SUMMARY: The Architectural and Transportation Barriers Compliance Board (Access Board) has scheduled its regular business meetings to take place in Bethesda, MD, on Tuesday and Wednesday, May 13-14, 2003, at the times and location noted below.

DATES: The schedule of events is as follows:

Tuesday, May 13, 2003

9-Noon Passenger Vessels Ad Hoc Committee (closed).

1:30-5 p.m. Public Rights-of-Way Ad Hoc Committee (closed).

Wednesday, May 14, 2003

9-11 a.m. Planning and Budget Committee.

11-11:45 a.m. Technical Programs Committee.

11:45-12:30 p.m. Executive Committee (closed).

2-3:30 p.m. Board Meeting.

ADDRESSES: The meetings will be held at the Hyatt Regency Bethesda, One Bethesda Metro Center, Bethesda, MD.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the March 12, 2003, Board Meeting Minutes.

• Planning and Budget Committee Report.

• Technical Programs Committee Report.

Closed Meeting

• Passenger Vessels Accessibility Guidelines.

• Public Rights-of-Way Accessibility Guidelines.

• Executive Committee Report.

• Draft Regulatory Assessment of Final Revised Guidelines for the Americans with Disabilities Act and Architectural Barriers Act (closed).

All meetings are accessible to persons with disabilities. Sign language interpreters and an assistive listening system are available at all meetings. Persons attending Board meetings are requested to refrain from using perfume, cologne, and other fragrances for the comfort of other participants.

James J. Raggio,
General Counsel.

[FR Doc. 03-10398 Filed 4-25-03; 8:45 am]

BILLING CODE 8150-01-P